DEPARTMENT OF THE INTERIOR

National Park Service

[NPS-WASO-NRNHL-17527; PPWOCRADI0, PCU00RP14.R50000]

National Register of Historic Places; Notification of Pending Nominations and Related Actions

Nominations for the following properties being considered for listing or related actions in the National Register were received by the National Park Service before January 10, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by February 23, 2015. Before including your address, phone number, email address, or other personal identifying information in your comment, you should be aware that your entire comment—including your personal identifying information—may be made publicly available at any time. While you can ask us in your comment to withhold your personal identifying information from public review, we cannot guarantee that we will be able to do so.

Dated: January 20, 2015.
James Gabbert,
Acting Chief, National Register of Historic Places, National Historic Landmarks Program.

ARIZONA

Maricopa County

Sun City DEVCO Model No.1, 10801 W. Oakmont Dr., Sun City, 15000022

CALIFORNIA

San Bernardino County

Guapiabit—Serrano Homeland Archeological District, Address Restricted, Hesperia, 15000023

GEORGIA

Bibb County

Bowden, Charles L., Golf Course, 3111 Millerfield Rd., Macon, 15000024

Fulton County

Utoy Cemetery, 1465 Cahaba Dr., Atlanta, 15000025

NEW MEXICO

Colfax County

Immanuel Lutheran Church, 307 Summit Ave., Springer, 15000026

Dona Ana County

Mesilla Park Elementary School, 304 Bell Ave., Las Cruces, 15000039

NEW YORK

Albany County

Washington Park Historic District (Boundary Increase), Henry Johnson Blvd., Sprague Pl. & Spring St., Albany, 15000027

Franklin County

Valentine, Chester, House, 182 Lake St., Saranac Lake, 15000028

Livingston County

Elmwood, 19 N. Walnut St., Nunda, 15000030

New York County

Congregation Shaare Zedek of Harlem, 23 W. 118th St., New York, 15000031

Saratoga County

Dunning Street Cemetery, Dunning St., Malta, 15000033

St. Lawrence County

Potsdam State Normal School Campus, 41 Elm & 56-60 Main Sts., Potsdam, 15000032

Steuben County

Bolton, James H., House, 117 W. Washington St., Bath, 15000034

Warren County

Queensbury Quaker Burying Ground, Bay & Quaker Rds., Queensbury, 15000035

Westchester County

Leffingwell—Batcheller House, 250 Palisade Ave., Yonkers, 15000036

OHIO

Clermont County

Groesbeck, Grace, House, 4949 Tealtown Rd., Perintown, 15000037

Cuyahoga County

Fairmont Creamery Company Ice Cream Building, 1720 Willey Ave., 2306 W. 17th St., Cleveland, 15000038

Franklin County

Hamlet, The, 138-166 E. 5th & 1193-1195 Hamlet Sts., Columbus, 15000040

Greene County

Xenia Carnegie Library, 194 E. Church St., Xenia, 15000041

Hamilton County

Crosley Building, 1329-1333 Arlington St., Cincinnati, 15000042

Montgomery County

Bombeck, Erma, House, 162 Cushwa Dr., Centerville, 15000043

OREGON

Benton County

Gorman, Hannah and Eliza, House, 641 NW. 4th St., Corvallis, 15000045

[FR Doc. 2015-02366 Filed 2-5-15; 8:45 am]

BILLING CODE 4312-51-P